DEPARTMENT OF JUSTICE

Antitrust Division

Notice Pursuant to the National Cooperative Research and Production Act of 1993—Information Warfare Research Project Consortium

Notice is hereby given that, on July 15, 2021, pursuant to Section 6(a) of the National Cooperative Research and Production Act of 1993, 15 U.S.C. 4301 et seq. (“the Act”), Information Warfare Research Project Consortium (“IWRP”) has filed written notifications simultaneously with the Attorney General and the Federal Trade Commission disclosing changes in its membership. The notifications were filed for the purpose of extending the Act's provisions limiting the recovery of antitrust plaintiffs to actual damages under specified circumstances. Specifically, 3Sphere Innovation Inc, Huntington Beach, CA; Arete Associates, Northridge, VA; Armedia LLC, Vienna, VA; Assured Wireless Corporation, San Diego, CA; Athena Consulting Group, LLC, North Charleston, SC; BeyondTrust Corporation, Duluth, GA; C4 Planning Solutions, LLC, Blythe, GA; Capstone Partners, Inc., Lancaster, PA; CUBRC, Inc., Buffalo, NY; DataHouse USA Inc., Honolulu, HI; Decision Lens Inc., Arlington, VA; Design Automation Associates, Inc., Windsor Locks, CT; Exium, Inc., Allen, TX; Greystones Consulting Group, Washington, DC; Illumio, Inc., Sunnyvale, CA; Improbable LLC, Arlington, VA; Innovatus Technology Consulting, San Diego, CA; IT Partners, Inc., Herndon, VA; NetNumber, Inc., Lowell, MA; Nobletech Solutions, Huntsville, AL; Partnership Solutions International, Painesville, OH; Ribbon Communications Federal, Westford, VA; Sentient Digital, Inc. dba Entrust Government Solutions, New Orleans, LA; Sertainty Corporation, Nashville, TN; SGSD Partners, LLC dba Elevate Government Solutions, Washington, DC; Shift5, Inc., Rosslyn, VA; Spectrum Bullpen, LLC, Palm Bay, FL; Taurean General Services, Boerne, TX; The Integration Group of Americas, Inc., Spring, TX; TIME Systems LLC, Dumfries, VA; TrueTandem LLC, Herndon, VA; TurbineOne LLC, San Francisco, CA; and Uptake Technologies, Inc., Chicago, IL have been added as parties to this venture.

Also, BlueCat Networks, Reston, VA; ICE ITS INC, Ashburn, VA; Newmoyer Geospatial Solutions LLC, Mount Pleasant, SC; Onoffblock, Inc. dba Xenesis, New Lenox, IL; Oteemo, Inc., Reston, VA; and Vitech Corporation, Blacksburg, VA have withdrawn from this venture.

No other changes have been made in either the membership or planned activity of the group research project. Membership in this group research project remains open, and IWRP intends to file additional written notifications disclosing all changes in membership.

On October 15, 2018, IWRP filed its original notification pursuant to Section 6(a) of the Act. The Department of Justice published a notice in the Federal Register pursuant to Section 6(b) of the Act on October 23, 2018 (83 FR 53499).

The last notification was filed with the Department on April 29, 2021. A notice was published in the Federal Register pursuant to Section 6(b) of the Act on May 24, 2021 (86 FR 27893).

Suzanne Morris,
Chief, Premerger and Division Statistics, Antitrust Division.

[FR Doc. 2021-18023 Filed 8-20-21; 8:45 am]

BILLING CODE 4410-11-P